ENVIRONMENTAL PROTECTION AGENCY

[FRL-8772-6]

EPA Science Advisory Board Staff Office; Notification of a Public Teleconference Meeting of the Chartered Science Advisory Board

AGENCY: Environmental Protection Agency (EPA).

ACTION: Notice.

SUMMARY: The EPA Science Advisory Board (SAB) Staff Office announces a public teleconference meeting of the Chartered Science Advisory Board to discuss a draft letter on science needs for EPA.

DATES: The meeting date is Thursday, March 5, 2009, from 2 p.m. to 4 p.m. (Eastern Time).

Location: The meeting will be conducted by telephone only.

FOR FURTHER INFORMATION CONTACT: Any member of the public wishing to obtain general information concerning this public teleconference meeting should contact Mr. Thomas O. Miller, Designated Federal Officer (DFO), EPA Science Advisory Board (1400F), 1200 Pennsylvania Ave., NW., Washington, DC 20460; via telephone/voice mail: (202) 343-9982; fax: (202) 233-0643; or e-mail at miller.tom@epa.gov. General information concerning the EPA Science Advisory Board can be found on the SAB Web site at: http://www.epa.gov/sab.

SUPPLEMENTARY INFORMATION: The SAB was established by 42 U.S.C. 4365 to provide independent scientific and technical advice to the Administrator on the technical basis for Agency positions and regulations. The SAB is a Federal advisory committee chartered under the Federal Advisory Committee Act (FACA), as amended, 5 U.S.C., App. The SAB will comply with the provisions of FACA and all appropriate SAB Staff Office procedural policies. Pursuant to the Federal Advisory Committee Act, Public Law 92-463, notice is hereby given that the EPA SAB will hold a public teleconference meeting to discuss a draft letter on immediate EPA science needs.

Background: SAB Telephone Conference, Thursday, March 5, 2009

Discussion of EPA Science Needs. At this meeting, the Chartered Science Advisory Board will discuss a draft letter that highlights science issues and needs for EPA's consideration. Should other issues need to be added to the agenda, they will be reflected on the agenda, along with other relevant information, that will be placed onto the SAB Web site at: http://www.epa.gov/sab prior to the meeting.

Availability of Meeting Materials: The agenda and other materials in support of this meeting will be placed on the SAB Web site at http://www.epa.gov/sab in advance of this meeting.

Procedures for Providing Public Input: Interested members of the public may submit relevant written or oral information for the SAB to consider on the topics included in this advisory activity and/or group conducting the activity. Oral Statements: In general, individuals or groups requesting an oral presentation at a public meeting will be limited to three minutes per speaker, with no more than a total of one-half hour for all speakers. Interested parties should contact Mr. Miller, DFO, in writing (preferably via e-mail) at the contact information noted above, by February 26, 2009 to be placed on a list of public speakers for the meeting. Written Statements: Written statements should be received in the SAB Staff Office by February 26, 2009 so that the information may be made available to the SAB Panel members for their consideration and placed on the SAB Web site for public information. Written statements should be supplied to the DFO in the following formats: One hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Mr. Thomas Miller at (202) 343-9982, or miller.tom@epa.gov. To request accommodation of a disability, please contact Mr. Miller, preferably at least 10 days prior to the meeting, to give EPA as much time as possible to process your request.

Dated: February 6, 2009.
Patricia Thomas,
Acting Deputy Director, EPA Science Advisory Board Staff Office.

[FR Doc. E9-2906 Filed 2-11-09; 8:45 am]

BILLING CODE 6560-50-P